DEPARTMENT OF ENERGY

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement between the Government of the United States of America and the Government of Australia Concerning Peaceful Uses of Nuclear Energy and the Agreement for Cooperation in the Peaceful Uses of Nuclear Energy between the United States of America and the European Atomic Energy Community (Euratom).

DATES: This subsequent arrangement will take effect no sooner than May 7, 2018 and after 15 days of continuous session of the Congress has elapsed, beginning the day after the date on which the reports required under section 131b.(1) of the Atomic Energy Act of 1954, as amended, are submitted to the House Foreign Affairs Committee and the Senate Foreign Relations Committee. The two time periods referred to above may run concurrently.

FOR FURTHER INFORMATION CONTACT: Mr. Sean Oehlbert, Office of Nonproliferation and Arms Control, National Nuclear Security Administration, Department of Energy. Telephone: 202-586-3806 or email: Sean.Oehlbert@nnsa.doe.gov.

SUPPLEMENTARY INFORMATION: This subsequent arrangement concerns the retransfer of 507,713 g of U.S.-obligated low enriched uranium, 61,535 g of which is in the isotope of U-235 (12.12 percent enrichment), and 4,427 g of plutonium, in the form of 236 irradiated fuel assemblies from the Open Pool Australian Lightwater (OPAL) research reactor at the Australian Nuclear Science and Technology Organisation in Australia, to Orano (formerly AREVA NC) at the La Hague reprocessing plant in France. The material in the irradiated fuel assemblies, which is currently located at the OPAL reactor, is to be retransferred to the La Hague plant for reprocessing. Orano will take title to the plutonium recovered during reprocessing, which will be incorporated into fresh civilian mixed oxide fuel assemblies. Residual plutonium that is not removed during reprocessing will be vitrified in canisters, which will be returned to Australia at a later time.

In accordance with section 131 of the Atomic Energy Act of 1954, as amended, I have determined that this subsequent arrangement concerning the retransfer of U.S.-obligated special nuclear material for reprocessing will not be inimical to the common defense and security of the United States of America and made the judgment that it will not result in a significant increase in the risk of proliferation beyond that which exists now, or which existed at the time approval was requested.

Dated: April 10, 2018.
For the Department of Energy.
Lisa E. Gordon-Hagerty,
Under Secretary for Nuclear Security Administrator, National Nuclear Security Administration.

[FR Doc. 2018-08284 Filed 4-19-18; 8:45 am]

BILLING CODE 6450-01-P